DEPARTMENT OF HEALTH AND HUMAN SERVICES

National Institutes of Health

National Cancer Institute; Amended Notice of Meeting

Notice is hereby given of a change in the meeting of the National Cancer Advisory Board, June 27, 2011, 6 p.m. to June 29, 2011, 12 p.m., National Institutes of Health, Building 31, 31 Center Drive, Conference Room 10, Bethesda, MD 20892 which was published in the Federal Register on May 10, 2011, 76 FR 27069.

This notice is amending the National Cancer Advisory Board meeting scheduled for June 28-29, 2011 from 9 a.m. to 12 noon to June 28, 2011 from 9 a.m. to 5 p.m. The Ad hoc Subcommittee on Facilitation of Industry Interactions will convene on June 27, 2011 from 1 p.m. to 5 p.m. and the Ad hoc Subcommittee on Clinical Investigations will convene on June 27, 2011 from 6 p.m. to 7:30 p.m.

Dated: 5/24/2011.
Jennifer S. Spaeth,
Director, Office of Federal Advisory Committee Policy.

[FR Doc. 2011-13537 Filed 5-31-11; 8:45 am]

BILLING CODE 4140-01-P